DEPARTMENT OF ENERGY

Federal Energy Regulatory Commission

Combined Notice of Filings #1

Take notice that the Commission received the following exempt wholesale generator filings:

Docket Numbers: EG20-10-000.

Applicants: Cardinal Point LLC.

Description: Notice of Self-Certification of Exempt Wholesale Generator Status of Cardinal Point LLC.

Filed Date: 10/17/19.

Accession Number: 20191017-5164.

Comments Due: 5 p.m. ET 11/7/19.

Docket Numbers: EG20-11-000.

Applicants: Lincoln Clean Energy, LLC.

Description: Notice of Self-Certification of Exempt Wholesale Generator Status of 2W Permian Solar, LLC.

Filed Date: 10/18/19.

Accession Number: 20191018-5094.

Comments Due: 5 p.m. ET 11/8/19.

Docket Numbers: EG20-12-000.

Applicants: GA Solar 4, LLC.

Description: GA Solar 4, LLC Self-Certification of Exempt Wholesale Generator Status.

Filed Date: 10/18/19.

Accession Number: 20191018-5163.

Comments Due: 5 p.m. ET 11/8/19.

Take notice that the Commission received the following electric rate filings:

Docket Numbers: ER19-125-002.

Applicants: Duke Energy Florida, LLC.

Description: Compliance filing: DEF-US EcoGen Polk LGIA Settlement (ER19-125 & EL19-23) Compliance Filing to be effective 10/4/2019.

Filed Date: 10/18/19.

Accession Number: 20191018-5183.

Comments Due: 5 p.m. ET 11/8/19.

Docket Numbers: ER20-135-000.

Applicants: Southwest Power Pool, Inc.

Description: § 205(d) Rate Filing: 3246R2 Tenaska Power and Montana-Dakota Utilities Att AO to be effective 10/1/2019.

Filed Date: 10/18/19.

Accession Number: 20191018-5053.

Comments Due: 5 p.m. ET 11/8/19.

Docket Numbers: ER20-136-000.

Applicants: Reading Wind Energy, LLC.

Description: Baseline eTariff Filing: Application for MBR Authority and Initial Baseline Tariff Filing to be effective 12/1/2019.

Filed Date: 10/18/19.

Accession Number: 20191018-5078.

Comments Due: 5 p.m. ET 11/8/19.

Docket Numbers: ER20-137-000.

Applicants: New York Independent System Operator, Inc.

Description: § 205(d) Rate Filing: NYISO 205 filing of tariff revisions to Attachment L of the OATT to be effective 12/18/2019.

Filed Date: 10/18/19.

Accession Number: 20191018-5082.

Comments Due: 5 p.m. ET 11/8/19.

Docket Numbers: ER20-138-000.

Applicants: Pacific Gas and Electric Company.

Description: § 205(d) Rate Filing: Procurement Agreement for CCSF Potrero Interconnection Project (SA 284) to be effective 10/21/2019.

Filed Date: 10/18/19.

Accession Number: 20191018-5099.

Comments Due: 5 p.m. ET 11/8/19.

Docket Numbers: ER20-139-000.

Applicants: PJM Interconnection, L.L.C.

Description: Tariff Cancellation: Notice of Cancellation of WMPA SA No. 4919; Queue No. AC2-073 to be effective 11/11/2019.

Filed Date: 10/18/19.

Accession Number: 20191018-5101.

Comments Due: 5 p.m. ET 11/8/19.

Docket Numbers: ER20-140-000.

Applicants: ISO New England Inc., New England Power Pool Participants Committee.

Description: § 205(d) Rate Filing: ISO-NE and NEPOOL; Price Responsive Demand Clean-Up Changes to be effective 12/18/2019.

Filed Date: 10/18/19.

Accession Number: 20191018-5129.

Comments Due: 5 p.m. ET 11/8/19.

Docket Numbers: ER20-141-000.

Applicants: GridLiance West LLC.

Description: Transmission Revenue Balancing Account Adjustment 2020 Annual Update of GridLiance West LLC.

Filed Date: 10/18/19.

Accession Number: 20191018-5142.

Comments Due: 5 p.m. ET 11/8/19.

Docket Numbers: ER20-142-000.

Applicants: ISO New England Inc., Public Service Company of New Hampshire.

Description: Notice of Cancellation of Large Generator Interconnection Agreement (No. LGIA-ISONE/NU-10-03) of ISO New England Inc., et al.

Filed Date: 10/18/19.

Accession Number: 20191018-5150.

Comments Due: 5 p.m. ET 11/8/19.

Docket Numbers: ER20-143-000.

Applicants: Southern California Edison Company.

Description: § 205(d) Rate Filing: Letter Agreement with MWD for Pilot Relay Project to be effective 12/18/2019.

Filed Date: 10/18/19.

Accession Number: 20191018-5177.

Comments Due: 5 p.m. ET 11/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2019.
Kimberly D. Bose,
Secretary.

[FR Doc. 2019-23487 Filed 10-25-19; 8:45 am]

BILLING CODE 6717-01-P